ENVIRONMENTAL PROTECTION AGENCY

40 CFR Parts 1, 2, 21, 35, 49, 52, 59, 60, 61, 62, 63, 65, 82, 147, 282, 374, 707, and 763

[FRL-9449-3]

Change of Address for Region 1; Technical Correction

AGENCY: Environmental Protection Agency (EPA).

ACTION: Final rule; technical amendment.

SUMMARY: The Environmental Protection Agency (EPA) is amending its regulations to reflect a change in address for EPA's Region 1 office. This action is editorial in nature and is intended to provide accuracy and clarity to the agency's regulations.

DATES: This final rule is effective August 11, 2011.

FOR FURTHER INFORMATION CONTACT: Donald O. Cooke, Air Quality Planning Unit, U.S. Environmental Protection Agency, EPA Region 1, Office of Ecosystem Protection, Air Quality Planning Unit, 5 Post Office Square—Suite 100, (Mail code OEP05-2), Boston, MA 02109-3912, telephone number (617) 918-1668, fax number (617) 918-0668, e-mail cooke.donald@epa.gov.

SUPPLEMENTARY INFORMATION:

I. Background

EPA is amending its regulations in 40 CFR parts 1, 2, 21, 35, 49, 52, 59, 60, 61, 62, 63, 65, 82, 147, 282, 374, 707, and 763 to reflect a change in the address for EPA's Region 1 office. This technical amendment merely updates and corrects the address for EPA's Region 1 office. Consequently, EPA has determined that today's rule falls under the “good cause” exemption in section 553(b)(3)(B) of the Administrative Procedures Act (APA) which, upon finding “good cause,” authorizes agencies to dispense with public participation and section 553(d)(3) which allows an agency to make a rule effective immediately (thereby avoiding the 30-day delayed effective date otherwise provided for in the APA). Under section 553 of the APA, an agency may find good cause where procedures are “impractical, unnecessary, or contrary to the public interest.” Public comment is “unnecessary” and “contrary to the public interest” since the address for Region 1 has changed and immediate notice in the CFR benefits the public by updating citations.

II. Statutory and Executive Order Reviews

This final rule implements technical amendments to 40 CFR parts 1, 2, 21, 35, 49, 52, 59, 60, 61, 62, 63, 65, 82, 147, 282, 374, 707, and 763 to reflect a change in the address for EPA's Region 1 office. It does not otherwise impose or amend any requirements. Consequently, under Executive Order 12866 (58 FR 51735, October 4, 1993), this action is not a “significant regulatory action” and therefore is not subject to review by the Office of Management and Budget. The rule would not impose an information collection burden under the provisions of the Paperwork Reduction Act of 1995 (44 U.S.C. 3501 et seq.). Because this action is merely editorial in nature, the Administrator certifies that it would not have a significant economic impact on a substantial number of small entities under the Regulatory Flexibility Act (5 U.S.C. 601 et seq.). The rule does not contain any unfunded mandate or significantly or uniquely affect small governments, as described in the Unfunded Mandates Reform Act of 1995 (Pub. L. 104-4).

This action does not have Federalism implications because it would not have substantial direct effects on the States, on the relationship between the national government and the States, or on the distribution of power and responsibilities among the various levels of government, as specified in Executive Order 13132 (64 FR 43255, August 10, 1999). Additionally, it does not have Tribal implications because it would not have a substantial direct effect on one or more Indian Tribes, on the relationship between the Federal Government and Indian Tribes, or on the distribution of power and responsibilities between the Federal Government and Indian Tribes, as specified by Executive Order 13175 (65 FR 67249, November 9, 2000).

This rule also is not an economically significant regulatory action based on health or safety risks subject to Executive Order 13045 “Protection of Children from Environmental Health Risks and Safety Risks” (62 FR 19885, April 23, 1997), nor is it subject to Executive Order 13211, “Actions Concerning Regulations That Significantly Affect Energy Supply, Distribution, or Use” (66 FR 28355, May 22, 2001). It does not involve any technical standards that require the Agency's consideration of voluntary consensus standards pursuant to section 12(d) of the National Technology Transfer and Advancement Act of 1995, Public Law 104-113, section 12(d) (15 U.S.C. 272 note). Finally, it does not provide EPA with the discretionary authority to address, as appropriate, disproportionate human health or environmental effects, using practicable and legally permissible methods under Executive Order 12898 (59 FR 7629, February 16, 1994).

III. Congressional Review Act

The Congressional Review Act (CRA), 5 U.S.C. 801 et seq., as added by the Small Business Regulatory Enforcement Fairness Act of 1996, generally provides that before a rule may take effect, the agency promulgating the rule must submit a rule report, which includes a copy of the rule, to each House of the Congress and to the Comptroller General of the United States. Section 808 of the CRA allows the issuing agency to make a rule effective sooner than otherwise provided by the CRA, if the agency makes a good cause finding that notice and public procedure is impracticable, unnecessary, or contrary to the public interest. This determination must be supported by a brief statement (5 U.S.C. 808(2)). As stated earlier, EPA has made such a good cause finding, including the reasons therefore, and established an effective date of August 11, 2011. EPA will submit a report containing this rule and other required information to the U.S. Senate, the U.S. House of Representatives, and the Comptroller General of the United States prior to publication of the rule in the Federal Register. A major rule cannot take effect until 60 days after it is published in the Federal Register. This action is not a “major rule” as defined by 5 U.S.C. 804(2).

List of Subjects

40 CFR Part 1

Environmental protection, Organization and functions (Government agencies).

40 CFR Part 2

Environmental protection, Administrative practice and procedure, Confidential business information, Courts, Freedom of information, Government employees.

40 CFR Part 21

Environmental protection, Administrative practice and procedure, Small businesses, Water pollution control.

40 CFR Part 35

Environmental protection, Air pollution control, Coastal zone, Grant programs—environmental protection, Grant programs—Indians, Hazardous waste, Indians, Intergovernmental relations, Pesticides and pests, Reporting and recordkeeping requirements, Technical assistance, Waste treatment and disposal, Water pollution control, Water supply.

40 CFR Part 49

Environmental protection, Administrative practice and procedure, Air pollution control, Indians, Intergovernmental relations, Reporting and recordkeeping requirements.

40 CFR Part 52

Environmental protection, Air pollution control, Carbon monoxide, Incorporation by reference, Intergovernmental relations, Lead, Nitrogen dioxide, Ozone, Particulate matter, Reporting and recordkeeping requirements, Sulfur oxides, Volatile organic compounds.

40 CFR Part 59

Environmental protection, Air pollution control, Confidential business information, Labeling, Ozone, Reporting and recordkeeping requirements, Volatile organic compounds.

40 CFR Part 60

Environmental protection, Administrative practice and procedure, Air pollution control, Aluminum, Ammonium sulfate plants, Batteries, Beverages, Carbon monoxide, Cement industry, Chemicals, Coal, Copper, Dry cleaners, Electric power plants, Fertilizers, Fluoride, Gasoline, Glass and glass products, Grains, Graphic arts industry, Heaters, Household appliances, Insulation, Intergovernmental relations, Iron, Labeling, Lead, Lime, Metallic and nonmetallic mineral processing plants, Metals, Motor vehicles, Natural gas, Nitric acid plants, Nitrogen dioxide, Paper and paper products industry, Particulate matter, Paving and roofing materials, Petroleum, Phosphate, Plastics materials and synthetics, Polymers, Reporting and recordkeeping requirements, Sewage disposal, Steel, Sulfur oxides, Sulfuric acid plants, Tires, Urethane, Vinyl, Volatile organic compounds, Waste treatment and disposal, Zinc.

40 CFR Part 61

Environmental protection, Air pollution control, Arsenic, Asbestos, Benzene, Beryllium, Hazardous substances, Mercury, Radionuclides, Radon, Reporting and recordkeeping requirements, Uranium, Vinyl chloride.

40 CFR Part 62

Environmental protection, Administrative practice and procedure, Air pollution control, Aluminum, Fertilizers, Fluoride, Intergovernmental relations, Paper and paper products industry, Phosphate, Reporting and recordkeeping requirements, Sulfur oxides, Sulfuric acid plants, Waste treatment and disposal.

40 CFR Part 63

Environmental protection, Administrative practice and procedure, Air pollution control, Hazardous substances, Intergovernmental relations, Reporting and recordkeeping requirements.

40 CFR Part 65

Environmental protection, Air pollution control, Intergovernmental relations, Reporting and recordkeeping requirements.

40 CFR Part 82

Environmental protection, Administrative practice and procedure, Air pollution control, Chemicals, Exports, Government procurement, Imports, Labeling, Reporting and recordkeeping requirements.

40 CFR Part 147

Environmental protection, Indians—lands, Intergovernmental relations, Reporting and recordkeeping requirements, Water supply.

40 CFR Part 282

Environmental protection, Hazardous substances, Insurance, Intergovernmental relations, Oil pollution, Surety bonds, Water pollution control, Water supply.

40 CFR Part 374

Environmental protection, Administrative practice and procedure, Air pollution control, Hazardous substances, Hazardous waste, Natural resources, Superfund, Water pollution control, Water supply.

40 CFR Part 707

Environmental protection, Chemicals, Environmental protection, Exports, Hazardous substances, Reporting and recordkeeping requirements.

40 CFR Part 763

Environmental protection, Administrative practice and procedure, Asbestos, Confidential business information, Environmental protection, Hazardous substances, Imports, Intergovernmental relations, Labeling, Occupational safety and health, Reporting and recordkeeping requirements, Schools.

Dated: July 20, 2011.
Ira W. Leighton,
Acting Regional Administrator, EPA Region I.

40 CFR parts 1, 2, 21, 35, 49, 52, 59, 60, 61, 62, 63, 65, 82, 147, 282, 374, 707, and 763 are amended as follows:

PART 1—[AMENDED]

1. The authority citation for part 1 continues to read as follows:

Authority: 5 U.S.C. 552.

Subpart A—Introduction

2. Section 1.7 is amended by revising paragraph (b)(1) to read as follows:

§ 1.7 Location of principal offices.

* * * * *

(1) Region I, U.S. Environmental Protection Agency, 5 Post Office Square—Suite 100, Boston, MA 02109-3912. (Connecticut, Maine, Massachusetts, New Hampshire, Rhode Island, and Vermont.)

* * * * *

PART 2—[AMENDED]

3. The authority citation for part 2 continues to read as follows:

Authority: 5 U.S.C. 301, 552 (as amended), 553; secs. 114, 205, 208, 301, and 307, Clean Air Act, as amended (42 U.S.C. 7414, 7525, 7542, 7601, 7607); secs. 308, 501 and 509(a), Clean Water Act, as amended (33 U.S.C. 1318, 1361, 1369(a)); sec. 13, Noise Control Act of 1972 (42 U.S.C. 4912); secs. 1445 and 1450, Safe Drinking Water Act (42 U.S.C. 300j-4, 300j-9); secs. 2002, 3007, and 9005, Solid Waste Disposal Act, as amended (42 U.S.C. 6912, 6927, 6995); secs. 8(c), 11, and 14, Toxic Substances Control Act (15 U.S.C. 2607(c), 2610, 2613); secs. 10, 12, and 25, Federal Insecticide, Fungicide, and Rodenticide Act, as amended (7 U.S.C. 136h, 136j, 136w); sec. 408(f), Federal Food, Drug and Cosmetic Act, as amended (21 U.S.C. 346(f)); secs. 104(f) and 108, Marine Protection Research and Sanctuaries Act of 1972 (33 U.S.C. 1414(f), 1418); secs. 104 and 115, Comprehensive Environmental Response, Compensation, and Liability Act of 1980, as amended (42 U.S.C. 9604 and 9615); sec. 505, Motor Vehicle Information and Cost Savings Act, as amended (15 U.S.C. 2005).

Subpart A—Procedures for Disclosure of Records Under the Freedom of Information Act

4. Section 2.101 is amended by revising paragraph (a)(1) to read as follows:

§ 2.101 Where requests for records are to be filed.

* * * * *

(a) * * *

(1) Region I (CT, ME, MA, NH, RI, VT): US EPA, FOI Officer, 5 Post Office Square—Suite 100, Boston, MA 02109-3912; e-mail: r1foia@epa.gov.

* * * * *

PART 21—[AMENDED]

5. The authority citation for part 21 continues to read as follows:

Authority: (15 U.S.C. 636), as amended by Pub. L. 92-500.

6. Section 21.3 is amended by revising the first entry for Region I in the table in paragraph (a) to read as follows:

§ 21.3 Submission of applications.

(a) * * *

Region | Address | State
I | Regional Administrator, Region I, EPA, 5 Post Office Square—Suite 100, Boston, MA 02109-3912 | Connecticut, Maine, Massachusetts, New Hampshire, Rhode Island, and Vermont.
* * * * * * *

PART 35—[AMENDED]

7. The authority citation for part 35 continues to read as follows:

Authority: 42 U.S.C. 4368b, unless otherwise noted.

Subpart M—Grants for Technical Assistance

8. Section 35.4275 is amended by revising paragraph (a) to read as follows:

§ 35.4275 Where can my group get the documents this subpart references (for example, OMB circulars, other subparts, forms)?

(a) TAG Coordinator or Grants Office, U.S. EPA Region I, 5 Post Office Square—Suite 100, Boston, MA 02109-3912

* * * * *

PART 49—[AMENDED]

9. The authority citation for part 49 continues to read as follows:

Authority: 42 U.S.C. 7401 et seq.

Subpart D—Implementation Plans for Tribes—Region I

10. Section 49.201 is amended by revising paragraph (b)(3) to read as follows:

§ 49.201 Identification of plan.

* * * * *

(b) * * *

(3) Copies of the materials incorporated by reference may be inspected at the New England Regional Office of EPA at 5 Post Office Square—Suite 100, Boston, MA 02109-3912; the U.S. Environmental Protection Agency, EPA Docket Center (EPA/DC), Air and Radiation Docket and Information Center, MC 2822T, 1200 Pennsylvania Avenue, NW., Washington, DC 20460 and the National Archives and Records Administration. If you wish to obtain material from the EPA Regional Office, please call 617-918-1653; for materials from the docket in EPA Headquarters Library, please call the Office of Air and Radiation docket at 202-566-1742. For information on the availability of this material at NARA, call 202-741-6030, or go to: http://www.archives.gov/federal_register/code_of_federal_regulations/ibr_locations.html.

* * * * *

PART 52—[AMENDED]

11. The authority citation for part 52 continues to read as follows:

Authority: 42 U.S.C. 7401 et seq.

Subpart A—General Provisions

12. Section 52.02 is amended by revising paragraph (d)(2)(i) to read as follows:

§ 52.02 Introduction.

* * * * *

(d) * * *

(2) * * *

(i) Connecticut, Maine, Massachusetts, New Hampshire, Rhode Island, and Vermont. Environmental Protection Agency, Region 1, 5 Post Office Square—Suite 100, Boston, MA 02109-3912.

* * * * *

13. Section 52.16 is amended by revising paragraph (b)(1) to read as follows:

§ 52.16 Submission to Administrator.

* * * * *

(b) * * *

(1) Connecticut, Maine, Massachusetts, New Hampshire, Rhode Island, and Vermont. EPA Region 1, 5 Post Office Square—Suite 100, Boston, MA 02109-3912.

* * * * *

Subpart U—Maine

14. Section 52.1020 is amended by revising paragraph (b)(3) to read as follows:

§ 52.1020 Identification of plan.

* * * * *

(b) * * *

(3) Copies of the materials incorporated by reference may be inspected at the Environmental Protection Agency, New England Regional Office, 5 Post Office Square—Suite 100, Boston, MA 02109-3912; Air and Radiation Docket and Information Center, EPA West Building, 1301 Constitution Ave., NW., Washington, DC 20460; and the National Archives and Records Administration (NARA). If you wish to obtain materials from a docket in the EPA Headquarters Library, please call the Office of Air and Radiation (OAR) Docket/Telephone number (202) 566-1742. For information on the availability of this material at NARA, call (202) 741-6030, or go to: http://www.archives.gov/federal_register/code_of_federal_regulations/ibr_locations.html.

* * * * *

Subpart EE—New Hampshire

15. Section 52.1520 is amended by revising paragraph (b)(3) to read as follows:

§ 52.1520 Identification of plan.

* * * * *

(b) * * *

(3) Copies of the materials incorporated by reference may be inspected at the Environmental Protection Agency, New England Regional Office, 5 Post Office Square—Suite 100, Boston, MA 02109-3912; Air and Radiation Docket and Information Center, EPA West Building, 1301 Constitution Ave., NW., Washington, DC 20460; and the National Archives and Records Administration (NARA). If you wish to obtain materials from the EPA Regional Office, please call (617) 918-1668; for materials from a docket in the EPA Headquarters Library, please call the Office of Air and Radiation (OAR) Docket at (202) 566-1742. For information on the availability of this material at NARA, call (202) 741-6030, or go to: http://www.archives.gov/federal_register/code_of_federal_regulations/ibr_locations.html.

* * * * *

Subpart OO—Rhode Island

16. Section 52.2070 is amended by revising in paragraph (b)(3) to read as follows:

§ 52.2070 Identification of plan.

* * * * *

(b) * * *

(3) Copies of the materials incorporated by reference may be inspected at the New England Regional Office of EPA at 5 Post Office Square—Suite 100, Boston, MA 02109-3912; the EPA, Air and Radiation Docket and Information Center, Room Number 3334, EPA West Building, 1301 Constitution Ave., NW., Washington, DC 20460, and the National Archives and Records Administration [NARA]. If you wish to obtain materials from a docket in the EPA Regional Office, please call telephone number (617) 918-1668; for material from a docket in EPA Headquarters Library, please call the Office of Air and Radiation (OAR) Docket/Telephone number (202) 566-1742. For information on the availability of this material at NARA, call 202-741-6030, or go to: http://www.archives.gov/federal_register/code_of_federal_regulations/ibr_locations.html.

* * * * *

Subpart UU—Vermont

17. Section 52.2370 is amended by revising paragraph (b)(3) to read as follows:

§ 52.2370 Identification of plan.

* * * * *

(b) * * *

(3) Copies of the materials incorporated by reference may be inspected at the New England Regional Office of EPA at 5 Post Office Square—Suite 100, Boston, MA 02109-3912; the EPA, Air and Radiation Docket and Information Center, Air Docket (Mail Code 6102T), Room B-108, 1301 Constitution Avenue, NW., Washington, DC 20460 and the National Archives and Records Administration. For information on the availability of this material at NARA, call 202-741-6030, or go to: http://www.archives.gov/federal_register/code_of_federal_regulations/ibr_locations.html.

* * * * *

PART 59—[AMENDED]

18. The authority citation for part 59 continues to read as follows:

Authority: 42 U.S.C. 7414 and 7511b(e).

Subpart B—National Volatile Organic Compound Emission Standards for Automobile Refinish Coatings

19. Section 59.107 is amended by revising the address for Region I to read as follows:

§ 59.107 Addresses of EPA Regional Offices.

* * * * *

EPA Region I (Connecticut, Maine, Massachusetts, New Hampshire, Rhode Island, Vermont), Director, Office of Environmental Stewardship, Mailcode: OES04-5, 5 Post Office Square—Suite 100, Boston, MA 02109-3912.

* * * * *

Subpart C—National Volatile Organic Compound Emission Standards for Consumer Products

20. Section 59.210 is amended by revising the address for Region I to read as follows:

§ 59.210 Addresses of EPA Regional Offices.

* * * * *

EPA Region I (Connecticut, Maine, Massachusetts, New Hampshire, Rhode Island, Vermont), Director, Office of Ecosystem Protection, 5 Post Office Square—Suite 100, Boston, MA 02109-3912.

* * * * *

Subpart D—National Volatile Organic Compound Emission Standards for Architectural Coatings

21. Section 59.409 is amended by revising the address for Region I in paragraph (a) to read as follows:

§ 59.409 Addresses of EPA Offices.

(a) * * *

EPA Region I (Connecticut, Maine, Massachusetts, New Hampshire, Rhode Island, Vermont), Director, Office of Environmental Stewardship, Mailcode: OES04-5, 5 Post Office Square—Suite 100, Boston, MA 02109-3912.

* * * * *

Subpart E—National Volatile Organic Compound Emission standards for Aerosol Coatings

22. Section 59.512 is amended by revising the address for Region I to read as follows:

§ 59.512 Addresses of EPA regional offices.

* * * * *

EPA Region I (Connecticut, Maine, Massachusetts, New Hampshire, Rhode Island, Vermont), Director, Office of Environmental Stewardship, 5 Post Office Square—Suite 100, Boston, MA 02109-3912.

* * * * *

PART 60—[AMENDED]

23. The authority citation for part 60 continues to read as follows:

Authority: 42 U.S.C. 7401 et seq.

Subpart A—General Provisions

24. Section 60.4 is amended by revising the address for Region I in paragraph (a) to read as follows:

§ 60.4 Address.

(a) * * * Region I (Connecticut, Maine, Massachusetts, New Hampshire, Rhode Island, Vermont), Director, Office of Ecosystem Protection, U.S. Environmental Protection Agency, 5 Post Office Square—Suite 100, Boston, MA 02109-3912.

* * * * *

PART 61—[AMENDED]

25. The authority citation for part 61 continues to read as follows:

Authority: 42 U.S.C. 7401 et seq.

Subpart A—General Provisions

26. Section 61.04 is amended by revising the address for Region I in paragraph (a) to read as follows:

§ 61.04 Address.

(a) * * *

Region I (Connecticut, Maine, Massachusetts, New Hampshire, Rhode Island, Vermont), Director, Office of Ecosystem Protection, U.S. Environmental Protection Agency, 5 Post Office Square—Suite 100, Boston, MA 02109-3912.

* * * * *

PART 62—[AMENDED]

27. The authority citation for part 62 continues to read as follows:

Authority: 42 U.S.C. 7401 et seq.

Subpart A—General Provisions

28. Section 62.10 is amended by revising the first entry for Region I address in the table to read as follows:

§ 62.10 Submission to Administrator.

* * * * *

Region and jurisdiction covered | Address
I—Connecticut, Maine, Massachusetts, New Hampshire, Rhode Island, Vermont | 5 Post Office Square—Suite 100, Boston, MA 02109-3912.
* * * * * * *

PART 63—[AMENDED]

29. The authority citation for part 63 continues to read as follows:

Authority: 42 U.S.C. 7401 et seq.

Subpart A—General Provisions

30. Section 63.13 is amended by revising the address for Region I in paragraph (a) to read as follows:

§ 63.13 Addresses of State air pollution control agencies and EPA Regional Offices.

(a) * * *

EPA Region I (Connecticut, Maine, Massachusetts, New Hampshire, Rhode Island, Vermont), Director, Office of Ecosystem Protection, 5 Post Office Square—Suite 100, Boston, MA 02109-3912.

* * * * *

PART 65—[AMENDED]

31. The authority citation for part 65 continues to read as follows:

Authority: 42 U.S.C. 7401 et seq.

Subpart A—General Provisions

32. Section 65.14 is amended by revising the address for Region I in paragraph (a) to read as follows:

§ 65.14 Addresses.

(a) * * *

Region I (Connecticut, Maine, Massachusetts, New Hampshire, Rhode Island, Vermont), Director, Office of Ecosystem Protection, U.S. Environmental Protection Agency, 5 Post Office Square—Suite 100, Boston, MA 02109-3912.

* * * * *

PART 82—[AMENDED]

33. The authority citation for part 82 continues to read as follows:

Authority: 42 U.S.C. 7414, 7601, 7671-7671q.

Subpart B—Servicing of Motor Vehicle Air Conditioners

34. Section 82.42 is amended by revising paragraph (a)(1)(iii)(A) to read as follows:

§ 82.42 Certification, recordkeeping and public notification requirements.

(a) * * *

(1) * * *

(iii) * * *

(A) Owners or lessees of recycling or recovery equipment having their places of business in Connecticut, Maine, Massachusetts, New Hampshire, Rhode Island, Vermont must send their certifications to: CAA section 609 Enforcement Contact; EPA Region I; Mail Code OES04-5; 5 Post Office Square—Suite 100, Boston, MA 02109-3912.

* * * * *

Subpart F—Recycling and Emissions Reduction

35. Section 82.162 is amended by revising the address for Region I in paragraph (a)(5) to read as follows:

§ 82.162 Certification by owners of recovery and recycling equipment.

(a) * * *

(5) The certification must also include a statement that the equipment will be properly used in servicing or disposing of appliances and that the information given is true and correct. Owners or lessees of recycling or recovery equipment having their places of business in: Connecticut, Maine, Massachusetts, New Hampshire, Rhode Island, and Vermont must send their certifications to: CAA section 608 Enforcement Contact; EPA Region I; Mail Code OES04-5; 5 Post Office Square—Suite 100, Boston, MA 02109-3912.

* * * * *

PART 147—[AMENDED]

36. The authority citation for part 147 continues to read as follows:

Authority: 42 U.S.C. 300h et seq.; and 42 U.S.C. 6901 et seq.

Subpart H—Connecticut

37. Section 147.350 is amended by revising paragraph (a) introductory text to read as follows:

§ 147.350 State-administered program.

* * * * *

(a) Incorporation by reference. The requirements set forth in the State statutes and regulations cited in this paragraph are hereby incorporated by reference and made part of the applicable UIC program under the SDWA for the State of Connecticut. This incorporation by reference was approved by the Director of the OFR in accordance with 5 U.S.C. 552(a) and CFR part 51. Copies may be obtained at the State of Connecticut, Department of Environmental Protection, State Office Building, 165 Capitol Avenue, Hartford, Connecticut, 06106. Copies may be inspected at the Environmental Protection Agency, Region I, 5 Post Office Square—Suite 100, Boston, MA 02109-3912, or at the National Archives and Records Administration (NARA). For information on the availability of this material at NARA, call 202-741-6030, or go to: http://www.archives.gov/federal_register/code_of_federal_regulations/ibr_locations.html.

* * * * *

PART 282—[AMENDED]

38. The authority citation for part 282 continues to read as follows:

Authority: 42 U.S.C. 6912, 6991c, 6991d, and 6991e.

Subpart A—General Provisions

39. Section 282.2 is amended by revising paragraph (b)(1) to read as follows:

§ 282.2 Incorporation by reference.

* * * * *

(b) * * *

(1) Region 1 (Connecticut, Maine, Massachusetts, New Hampshire, Rhode Island, Vermont): 5 Post Office Square—Suite 100, Boston, MA 02109-3912.

* * * * *

PART 374—[AMENDED]

40. The authority citation for part 374 continues to read as follows:

Authority: 42 U.S.C. 9659.

41. Section 374.6 is amended by revising the address for Region I to read as follows:

§ 374.6 Addresses.

* * * * *

Regional Administrator, Region I, U.S. Environmental Protection Agency, 5 Post Office Square—Suite 100, Boston, MA 02109-3912.

* * * * *

PART 707—[AMENDED]

42. The authority citation for part 707 continues to read as follows:

Authority: 15 U.S.C. 2611(b) and 2612.

Subpart B—General Import Requirements and Restrictions

43. Section 707.20 is amended by revising the address for Region I in paragraph (c)(2)(ii) to read as follows:

§ 707.20 Chemical substances import policy.

* * * * *

(c) * * *

(2) * * *

(ii) * * *

Region I

5 Post Office Square—Suite 100, Boston, MA 02109-3912 (617-918-1700).

* * * * *

PART 763—[AMENDED]

44. The authority citation for part 763 continues to read as follows:

Authority: 15 U.S.C. 2605, 2607(c), 2643, and 2646.

Subpart E—Asbestos Containing Materials in Schools

45. Appendix C is amended by revising the address for Region I under II.C.3. to read as follows:

Appendix C to Subpart E of Part 763—Asbestos Model Accreditation Plan

* * * * *

II. * * *

C. * * *

3. * * *

EPA, Region I, (OES05-1) Asbestos Coordinator, 5 Post Office Square—Suite 100, Boston, MA 02109-3912, (617) 918-1016.

* * * * *

46. Appendix D is amended by revising the address for Region I to read as follows:

Appendix D to Subpart E of Part 763—Transport and Disposal of Asbestos Waste

* * * * *

Region I

Asbestos NESHAPs Contact, Office of Environmental Stewardship, USEPA, Region I, 5 Post Office Square—Suite 100, Boston, MA 02109-3912, (617) 918-1551.

* * * * *

[FR Doc. 2011-20035 Filed 8-10-11; 8:45 am]

BILLING CODE 6560-50-P